DEPARTMENT OF HEALTH AND HUMAN SERVICES

Health Resources and Services Administration

Agency Information Collection Activities: Proposed Collection; Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer at (301) 443-1891.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of the Implementation and Outcomes of the Maternal and Child Health Bureau's National Healthy Start Program—Phase II (NEW)

The Health Resources and Service Administration's Maternal and Child Health Bureau (MCHB) initiated the Healthy Start Program in 1991 in response to concerns about high infant mortality rates. The Phase II evaluation includes a survey of Healthy Start Program participants designed to collect information that is important to understanding the implementation of Healthy Start and the program effects from a client perspective. Specifically, the goals of the survey are to: describe the participant population, assess the services they received during the prenatal and early postpartum periods, describe their experiences and satisfaction with the health system and services, and examine their health behaviors.

The survey will be administered to participants at eight grantee sites. The survey will use a mixed-mode approach: it will be conducted primarily by telephone using computer-assisted telephone interviewing (CATI) with in-person field follow up if the telephone attempts are unsuccessful.

Data gathered from the survey will be used to provide HRSA the information necessary to assess the grantees' achievement of MCHB's goal to improve perinatal outcomes among racial and ethnic minorities.

The estimated burden on respondents is as follows:

Respondents | Number of respondents | Responses per respondent | Total responses | Minutes per response | Total burden (hours)
Participants | 1000 | 1 | 1000 | 30 | 500

Send comments to Susan G. Queen, Ph.D., HRSA Reports Clearance Officer, Room 11A-33, Parklawn Building, 5600 Fishers Lane, Rockville, MD 20857. Written comments should be received within 60 days of notice.

Dated: February 17, 2005.
Tina M. Cheatham,
Director, Division of Policy Review and Coordination.

[FR Doc. 05-3712 Filed 2-25-05; 8:45 am]

BILLING CODE 4165-15-P